OFFICE OF MANAGEMENT AND BUDGET

Proposals From the Federal Interagency Working Group for Revision of the Standards for Maintaining, Collecting, and Presenting Federal Data on Race and Ethnicity

AGENCY: Office of Information and Regulatory Affairs, Executive Office of the President, Office of Management and Budget (OMB).

ACTION: Notice and request for comments.

SUMMARY: OMB requests comments on the proposals that it has received from the Federal Interagency Working Group for Research on Race and Ethnicity (Working Group) for revisions to OMB's Standards for Maintaining, Collecting, and Presenting Federal Data on Race and Ethnicity. The Working Group's report and proposals, which are presented here in brief and available on https://www.whitehouse.gov/briefing-room/presidential-actions/related-omb-material and on http://www.regulations.gov in their entirety, are the result of a two-year, focused review of the implementation of the current standards. The Working Group's report reflects an examination of current practice, public comment received in response to the Federal Register Notice posted by OMB on September 30, 2016, and empirical analyses of publicly available data. The report also notes statutory needs and feasibility considerations, including cost and public burden. Initial proposals and specific questions to the public appear under the section Issues for Comment.

None of the proposals has yet been adopted and no interim decisions have been made concerning them. The Working Group's report and its proposals are being published to solicit further input from the public. OMB plans to announce its decision in mid-2017 so that revisions, if any, can be reflected in preparations for the 2020 Census. OMB can modify or reject any of the proposals, and OMB has the option of making no changes. The report and its proposals are published in this Notice because OMB believes that they are worthy of public discussion, and OMB's decision will benefit from obtaining the public's views on the recommendations.

DATES: To ensure consideration during the final decision making process, comments must be provided in writing to OMB no later than 60 days from the publication of this notice. Please be aware of delays in mail processing at Federal facilities due to increased security. Respondents are encouraged to send comments electronically via email or via http://www.regulations.gov. See ADDRESSES below.

ADDRESSES: Written comments on the recommendations may be addressed to the Office of the U.S. Chief Statistician, Office of Information and Regulatory Affairs, Office of Management and Budget, 9th Floor, 1800 G St. NW., Washington, DC 20503. You may also send comments or questions via email to Race-Ethnicity@omb.eop.gov or to http://www.regulations.gov, a Federal Web site that allows the public to public to find, review, and submit comments on documents that agencies have published in the Federal Register and that are open for comment. Simply type “OMB-2016-0008” in the Comment or Submission search box, click Go, and follow the instructions for submitting comments.

Comments submitted in response to this notice may be made available to the public through relevant Web sites. For this reason, please do not include in your comments information of a confidential nature, such as sensitive personal information or proprietary information. If you send an email comment, your email address will be automatically captured and included as part of the comment that is placed in the public docket. Please note that responses to this public comment request containing any routine notice about the confidentiality of the communication will be treated as public comments that may be made available to the public notwithstanding the inclusion of the routine notice.

Electronic Availability: This document is available on the Internet on the OMB Web site at: https://www.whitehouse.gov/briefing-room/presidential-actions/related-omb-material and on http://www.regulations.gov.

FOR FURTHER INFORMATION CONTACT: Jennifer Park, Senior Advisor to the U.S. Chief Statistician, 1800 G St., 9th Floor, Washington, DC 20503, email address: Race-Ethnicity@omb.eop.gov.

SUPPLEMENTARY INFORMATION:

A. Background

To operate efficiently and effectively, the Nation relies on the flow of objective, credible statistics to support the decisions of individuals, households, governments, businesses, and other organizations. Any loss of trust in the accuracy, objectivity, or integrity of the Federal statistical system and its products causes uncertainty about the validity of measures the Nation uses to monitor and assess its performance, progress, and needs by undermining the public's confidence in the information released by the Government. A number of Federal legislative and executive actions, informed by national and international practice, have been put into place to maintain public confidence in Federal statistics.

Accordingly, in its role as coordinator of the Federal statistical system under the Paperwork Reduction Act (https://www.reginfo.gov/public/reginfo/pra.pdf), OMB, among other responsibilities, is required to ensure the efficiency and effectiveness of the system as well as the integrity, objectivity, impartiality, utility, and confidentiality of information collected for statistical purposes. OMB is also charged with developing and overseeing the implementation of Government-wide principles, policies, standards, and guidelines concerning the development, presentation, and dissemination of statistical information.

For example, Statistical Policy Directive No. 1: Fundamental Responsibilities of Federal Statistical Agencies and Recognized Statistical Units (https://www.gpo.gov/fdsys/pkg/FR-2014-12-02/pdf/2014-28326.pdf) provides a unified framework of Federal statistical agency responsibilities in the production of relevant, accurate, and objective statistical products while maintaining the trust of data providers and users. Statistical Policy Directive No. 2: Standards and Guidelines for Statistical Surveys and accompanying addenda (https://www.whitehouse.gov/sites/default/files/omb/inforeg/statpolicy/standards_stat_surveys.pdf) provide overarching, technical standards and guidelines to be used by Federal agencies when preparing statistical products. OMB's established, independent process for preparing statistical policy directives includes Federal technical evaluation, public comment, and expert statistical analysis.

The Federal Standards for Maintaining, Collecting, and Presenting Federal Data on Race and Ethnicity (https://www.whitehouse.gov/omb/fedreg_1997standards) are another such example of OMB standards developed using this established, independent process. These current standards were developed in cooperation with Federal agencies to provide consistent and comparable data on race and ethnicity throughout the Federal government for an array of statistical and administrative programs. Development of these Federal data standards stemmed in large measure from new responsibilities to enforce civil rights laws. Data were needed to monitor equal access to housing, education, employment opportunities, etc., for population groups that historically had experienced discrimination and differential treatment because of their race or ethnicity. The standards are used not only in the decennial census (which provides the “denominator” for many measures), but also in household surveys, on administrative forms (e.g., school registration and mortgage lending applications), and in medical and other research.

In brief, the standards provide a minimum set of categories for data on race and ethnicity that Federal agencies must use if they intend to collect information on race and ethnicity. The standards do not prohibit Federal agencies from collecting more detailed race/ethnicity data. Collection of more detailed information is encouraged by the standards, provided that any additional categories can be aggregated within the minimum standard set if necessary to facilitate comparison of data generated from information collections of varying detail. Self-identification is the preferred means of obtaining information about an individual's race and ethnicity, except in instances where observer identification is the only, or most feasible collection mode (e.g., completing a death certificate). Where self-identification is practicable, individuals are encouraged to select as many categories as they deem to be appropriate in describing themselves. Specifically, the current standards state: “Respect for individual dignity should guide the processes and methods for collecting data on race and ethnicity; ideally, respondent self-identification should be facilitated to the greatest extent possible, recognizing that in some data collection systems observer identification is more practical.”

The categories developed represent a socio-political construct designed to be used in the self-reported or observed collection of data on the race and ethnicity of major broad population groups in this country, and are not genetically-, anthropologically-, or scientifically-based. The categories in the standards do not identify or designate certain population groups as “minority groups.” As the standards explicitly state, these categories are not to be used for determining the eligibility of population groups for participation in any Federal programs.

B. Review Process

To maintain the relevance and accuracy of Federal statistics, OMB, in its role coordinating the Federal statistical system through the authority provided in the Paperwork Reduction Act, undertakes periodic reviews of its Federal statistical standards. Since the 1997 revision of Federal race/ethnicity standards, much has been learned about their implementation. Over this same time span, the U.S. population has continued to become more racially and ethnically diverse. In accordance with good statistical practice, several Federal agencies have conducted methodological research to better understand how use of the revised standards informs the quality of Federal statistics on race and ethnicity.

In 2014, OMB formed the Working Group to exchange research findings, identify implementation issues, and collaborate on a shared research agenda to improve Federal data on race and ethnicity. The Working Group comprises representatives from ten Cabinet departments and three other agencies engaged in the collection or use of Federal race and ethnicity data.

Through its systematic review of the implementation of the 1997 revision and stakeholder feedback, the Working Group identified four particular areas where further revisions to the standards might improve the quality of race and ethnicity information collected and presented by Federal agencies. Specifically, these four areas were:

1. The use of separate questions versus a combined question to measure race and ethnicity and question phrasing as a solution to race/ethnicity question nonresponse;

2. The classification of a Middle Eastern and North African (MENA) group and distinct reporting category;

3. The description of the intended use of minimum reporting categories; and

4. The salience of terminology used for race and ethnicity classifications and other language in the standard.

Within the Working Group, Subgroups were formed to identify areas for possible revision; review public comments regarding areas identified; conduct empirical analyses of potential improvements; and consider statutory requirements and anticipated public burden and cost. The Subgroups were charged with preparing initial proposals for consideration by the Working Group as a whole, and, subsequently, by OMB. Each Subgroup was comprised of Federal statisticians and/or Federal policy analysts. Several agencies were represented in each Subgroup, and Subgroup co-chairs facilitated work processes. Each Subgroup prepared its analysis plan; these were simultaneously shared and discussed across the Working Group.

On September 30, 2016, OMB issued a notice in the Federal Register (www.regulations.gov/document?D=OMB-2016-0002-0001) announcing its review and requesting public comment on the areas identified by the Working Group where revision to the current standards might improve the quality of Federal data on race and ethnicity. Specifically, comments were requested on: (1) The adequacy of the current standards in the areas identified for focused review; (2) specific suggestions for the identified areas that have been offered; and (3) principles that should govern any proposed revisions to the standards in the identified areas.

After careful review of the 3,750 public comments received, as well as other stakeholder engagement; analysis of publicly available empirical data and cognitive testing results; and consideration of statutory needs, operational feasibility, cost and public burden; the Working Group developed an interim report and now seeks further public comment. The review process and findings are described in detail in the report (LINK). In some cases, initial proposals are also offered.

C. Issues for Comment

With this notice, OMB requests comments on proposals presented in the interim report of the Federal Interagency Working Group for Research on Race and Ethnicity for revisions to OMB's Standards for Maintaining, Collecting, and Presenting Federal Data on Race and Ethnicity. These proposals and requests for further public comment appear in the final chapter of the Working Group's report (LINK) and are presented here for ease of reference. Note that these are issues presented by each separate Subgroup and do not necessarily represent a consensus of the entire Working Group as a whole. The Working Group will continue to deliberate and take into consideration comments received from the public before making final proposals for OMB's consideration.

1. Questionnaire Format and Nonresponse

(a) Initial Plans: The Subgroup plans to continue its review of current Federal agency practices to determine whether or how a revised question format might improve the collection, tabulation, and utility of race/ethnicity statistics for Federal programs and policies. From this review, the Subgroup plans to prepare (initial) proposals for consideration.

(b) Request for Public Comment: The Subgroup's review of current agency practices to collect and report data on race/ethnicity has identified challenges faced by some agencies with the implementation of the current standards. The Subgroup also identified challenges anticipated if the current standards were revised from a Separate Questions format to a Combined Question format. The public comments received to date also articulated both of these concerns, with the public generally noting that a Combined Question approach resonates with personal conceptions of race/ethnicity. (That is, most commentators thought there was no basis to distinguish between race and ethnicity.) However, concerns were also raised regarding the anticipated operational feasibility and cost for implementing this change, particularly among Federal commentators. Analyses to date suggested that collecting these data using a Combined Question may improve information quality for some respondents in some information collections. However, these results may apply most readily to self-reported collections conducted by the U.S. Census Bureau, whose data collection and data coding procedures differ from those used by other Federal agencies due to a Congressional requirement particular to Census (See H.R. 2562, 2005-2006). Further, the results do not seem to generalize easily to the collection of race/ethnicity through administrative records—a method on which many Federal agencies rely heavily. Administrative record data collections, which are used more routinely to generate Federal statistics, rely on complementary data collections by administrative units, which add to the complexity of making changes to the racial and ethnic classifications. In effect, each of the individual administrative units must implement the revised categories. In some cases, this implementation may be within systems relying on the same record systems, such in the cases of schools within a district or state. In other cases, changes to administrative record systems may require changing procedures for large numbers of individual institutions, businesses, or organizations. It is clear, however, that both the magnitude and scope of anticipated benefits and costs must be considered.

Therefore, to assist in its deliberations, the Subgroup requests public comment on the following questions. Thinking about how information is collected:

1. What factors should be considered when evaluating anticipated information quality? Should both magnitude and scope (that is, the majority of collections) be considered? Should magnitude of the improved information outweigh the scope of the improved change, or vice versa? What amount of improvement would be considered meaningful? How should an improvement in data quality in some Federal data systems be balanced against decreased data quality in other systems?

2. What factors should be considered when evaluating anticipated feasibility? Should burden to local, State, and Federal agencies be considered? What amount of cost spent to augment systems and labor hours used to implement changes would caution against implementing a change? How should potential lags in data delivery be weighed?

3. What factors should be considered when evaluating anticipated cost of implementing a change? Should costs be weighed differently when experienced at a local, State, or Federal level? How should the costs of improving or failing to improve information quality be considered?

4. When considering information quality, feasibility, and cost, how should benefits and costs be weighed? In which cases would information quality outweigh feasibility and cost concerns? In which cases would feasibility and cost concerns outweigh information quality?

2. Classification of Middle Eastern or North African Race/Ethnicity

(a) Initial Proposal: The Subgroup proposes that a Middle Eastern or North African (MENA) classification be added to the standards. The classification for the Middle Eastern and North African population should be geographically based. The MENA classification should be defined as: “A person having origins in any of the original peoples of the Middle East and North Africa. This includes, for example, Lebanese, Iranian, Egyptian, Syrian, Moroccan, Israeli, Iraqi, Algerian, and Kurdish.” ¹

¹ The rationale for using these examples is to include the two largest Middle Eastern Arab nationalities (Lebanese and Syrian), the two largest North African Arab nationalities (Egyptian and Moroccan), and the two largest non-Arab nationalities within the Middle Eastern/North African region (Iranian and Israeli) as the first six examples. This is followed by the next largest Middle Eastern Arab nationality (Iraqi), the next largest North African Arab nationality (Algerian); as well as an example of a transnational, non-Arab group (Kurdish).

The Subgroup bases this initial recommendation on public comment and analyses to date. During the public comment process for the 1997 standards, OMB received a number of requests to add an ethnic category for Arabs and Middle Easterners to the minimum collection standards. OMB heard those requests and encouraged further research on how to collect and improve data on the Arab and Middle Easterner population. Since that time, research has continued and, with the benefit of quantitative and qualitative information collections conducted by the Census Bureau as well as public comment and stakeholder engagement, the results have overwhelmingly supported the classification of a MENA category. (See Interim Report.)

Last, findings from the Census Bureau's 2015 Forum on Ethnic Groups from the Middle East and North Africa (http://www.census.gov/library/working-papers/2015/demo/2015-MENA-Experts.html) and a review of public comments on Proposed Information Collection; Comment Request; 2015 National Content Test (12/2/2014) found that some experts and stakeholders believe that a classification of this population should be geographically based.

(b) Request for Public Comment: However, some questions remain. Some of the groups proposed for inclusion under a MENA classification were also ethnoreligious groups. A challenge to ethnicity measurement can be the intersection of ethnicity with religious affiliation. The race/ethnicity standards are not intended to measure religion (see Pub. L. 94-521), and it is unclear how to address inclusion of ethnoreligious groups while clearly maintaining the intent and use of the resulting measure as not indicating religion. Further, although the great majority of public comments received on the measurement of MENA supported an additional, required minimum reporting category, the cost and burden of requiring this additional reporting category when race/ethnicity is measured across the Federal government is unclear.

1. If MENA were collected as a separate reporting category, assuming that separate race/ethnicity questions continue to be the standard, should MENA be considered an ethnicity or a race? [Note that, in either case, respondents still will be able to report more than one.]

2. Beyond potentially establishing a specification of a MENA classification (i.e., a description of the national origins and populations that would be included as MENA), the IWG is also researching the potential establishment of MENA as a separate required minimum reporting category. Should the MENA category be a required minimum reporting category that is separate from the White minimum reporting category?

3. Outreach conducted with the Israeli American Council and Jewish American organizations indicates that persons of Ashkenazi, Mizrahi, and Sephardi origin do not wish to be included in the MENA category, as these ethnicities directly identify persons as Jewish. Moreover, experts at the Census Bureau's 2015 Forum on Ethnic Groups from the Middle East and North Africa expressed that those who identify as Assyrian, Chaldean, Coptic, or Druze would like to be included in a MENA category. We ask for public comment regarding the following question: Which, if any, specific ethnoreligious groups should be included in a MENA classification?

4. The Subgroup has also observed from initial feedback that the definition of MENA may be misunderstood to include only persons who are foreign born. Our intention is that a MENA category, should it be adopted, would include persons of MENA origins, regardless of country of birth. We are interested in receiving feedback as to how to best communicate this to respondents.

5. What is the estimated cost and public burden associated with requiring an additional reporting category for MENA across Federal information collections? Given the estimated size of the MENA group, would a separate reporting category allow reporting of statistically reliable estimates? Would the size of the MENA group present confidentiality or privacy concerns? How should the anticipated improvement in information quality be weighed against anticipated feasibility and cost if the additional reporting category were encouraged? If it were required?

3. Additional Minimum Reporting Categories

The initial review of the 1997 standards did not identify additional, minimum reporting categories for detailed race/ethnicity groups as an element for evaluation. However, during the public comment period for September 30, 2016's Federal Register Notice, the Working Group received more than 1,200 comments expressing the need for further disaggregated data for Asian communities and Native Hawaiian or Other Pacific Islander communities. Other comments express a similar need for disaggregated data, including 10 comments advocating for the disaggregation of the “Black or African American” category.

(a) Initial Proposal: Based on public comment and Federal agency input received to date, the Subgroup proposes that OMB issue specific guidelines for the collection of detailed data for American Indian or Alaska Native, Asian, Black or African American, Hispanic or Latino, Native Hawaiian or Other Pacific Islander, and White groups for self-reported race and ethnicity collections. By providing these guidelines, consistent collection of detailed race and ethnicity data will be supported across Federal agencies. Such direction would not be applied to the collection of observed race/ethnicity, since the accuracy at such a detailed level would be a concern in this form of reporting. Further, the Subgroup plans to consider under what other conditions detailed data should not be collected. However, the Subgroup plans to continue its deliberations as to whether OMB should require or, alternatively, strongly support but not require Federal agencies to collect detailed data.

1. The Subgroup proposes that OMB issue specific guidelines for the collection of detailed race and ethnicity data for collections that are self-reported.

(b) Request for Public Comment: The Subgroup requests public comments on the guidelines that should be provided for collecting detailed race and ethnicity data. Additionally, to evaluate whether or not the reporting of detailed categories should be required, or if such reporting should be strongly encouraged but not required, additional information is needed. The Subgroup recognizes that collecting detailed race and ethnicity data likely would impose a substantial cost on Federal agencies, State and local agencies, and private sector entities and burden on the public. Therefore, the Subgroup requests public comment on the consideration that should be given to evaluate the value of improved information quality taking into account anticipated cost and public burden. Specifically, the Subgroup seeks public comment on the following questions:

1. If issuing specific guidelines for the collection of detailed American Indian or Alaska Native race and ethnicity data, should OMB adopt the 2015 National Content Test (NCT) method, which includes separately Navajo Nation, Blackfeet Tribe, Mayan, Aztec, Native Village or Barrow Inupiat Traditional Government, and Nome Eskimo Community? If not, how should OMB select the detailed race and ethnicity categories?

2. If issuing specific guidelines for the collection of detailed Asian race and ethnicity data, should OMB adopt the 2010 Decennial Census and NCT format, which includes separately Chinese, Filipino, Asian Indian, Vietnamese, Korean, Japanese, and an “other Asian” category? ² If not, how should OMB select the detailed Asian race and ethnicity categories?

² The checkboxes used in Census 2010 were Asian Indian, Chinese, Filipino, Japanese, Korean, Vietnamese, and Other Asian with five additional examples of Hmong, Laotian, Thai, Pakistani, and Cambodian.

3. If issuing specific guidelines for the collection of detailed Black or African American race and ethnicity data, should OMB adopt the NCT format, which includes separately African American, Jamaican, Haitian, Nigerian, Ethiopian, and Somali? If not, how should OMB select the detailed race and ethnicity categories?

4. If issuing specific guidelines for the collection of detailed Hispanic or Latino race and ethnicity data, should OMB adopt the NCT format, which includes separately Mexican or Mexican American, Puerto Rican, Cuban, Salvadoran, Dominican, and Colombian? If not, how should OMB select the detailed race and ethnicity categories?

5. If issuing specific guidelines for the collection of detailed Native Hawaiian or Other Pacific Islanders race and ethnicity data, should OMB adopt the 2010 Decennial Census format, which includes separately Native Hawaiian, Chamorro,³ Samoan, and an “other Pacific Islander” category? Should it use the NCT format, which includes separately Native Hawaiian, Samoan, Chamorro, Tongan, Fijian, and Marshallese? If neither of these, how should OMB select the detailed Native Hawaiian or Other Pacific Islander race and ethnicity categories?

³ In the 1997 standards, the actual OMB standards used the term Guam, not Guamanian. Census 2010 featured the following checkboxes: Native Hawaiian, Guamanian or Chamorro, Samoan; and provided the following examples listed for other NHPI: Fijian and Tongan. Since Census 2010, based on feedback received by members of the Native Hawaiian or Other Pacific Islander community, Census no longer includes the term Guamanian in its collections.

6. If issuing specific guidelines for the collection of detailed White race and ethnicity data, should OMB adopt the NCT format, which includes separately German, Irish, English, Italian, Polish, and French? ⁴ If not, how should OMB select the detailed race and ethnicity categories?

⁴ These are the examples used when MENA was included in NCT questionnaires. When MENA was not included in NCT questionnaires, the examples are as follows: German, Irish, English, Italian, Lebanese, and Egyptian.

7. What burden and cost would a Federal requirement to collect detailed race and ethnicity data place on Federal agencies, State and local agencies, private sector entities and the public? How should this burden and cost be weighed against any anticipated improvement in information quality?

8. Should Federal agencies be required to collect detailed race and ethnicity data even when such data could not be responsibly reported due to statistical reliability and confidentiality concerns? If so, in which cases? What factors should be considered?

9. If OMB were to strongly encourage, but not require, collection of detailed race and ethnicity data by Federal agencies, how likely are Federal agencies to adopt collection of detailed race and ethnicity data?

10. If OMB were to strongly encourage, but not require, collection of detailed race and ethnicity data by Federal agencies, what criteria should be used to encourage and evaluate conformance with such guidance?

4. Relevance of Terminology

(a) Initial Proposals:

1. The Subgroup proposes no changes be made to the current standards to specifically incorporate the following geographic locations into any existing race or ethnicity category: Australian (including the original people of Australia/the Aborigines), Brazilian, Cape Verdean, New Zealander, and Papua New Guinean. This proposal takes into account the low prevalence of these geographic locations appearing as write-in responses according to the research presented above.

2. Based on its analyses to date, the Subgroup proposes more research and public input be conducted to enable a more complete consideration of adding more specific South or Central American subgroups to the current description of the American Indian or Alaska Native (AIAN) category in order to improve identification with the reporting category.

3. The Subgroup proposes that the duplicate initial mention of “Cuban” be deleted in the definition of “Hispanic or Latino” so that the listing is presented according to population size. The Subgroup also considered whether the current ordering of the classification listing should be updated to reflect current population size. As a next step, the Subgroup plans to apply this rationale to the classification listing and determine the magnitude and benefit of any resulting changes. The results of this analysis are intended to be shared with the public.

4. The Subgroup proposes that the term “Negro” be removed from the standards. Further, the Subgroup recommends that the term “Far East” be removed from the current standards.

5. The Subgroup also proposes that OMB provide guidance to Federal agencies that race/ethnicity coding procedures be documented and made publicly available, as this would allow greater transparency and promote further consistency in Federal data collections.

6. The Subgroup proposes further clarifying the standards to indicate the classification is not intended to be genetically based, nor based on skin color. Rather, the goal of standards is to provide guidelines for the Federal measurement of race/ethnicity as a social construct and therefore inform public policy decisions.

(b) Request for Public Comment: The Subgroup also considered whether referring to Black or African American as the “principal minority race” is still relevant, meaningful, accurate, and acceptable. Given that many of the groups classified as racial and ethnic minorities have experienced institutionalized or State-sanctioned discrimination as well as social disadvantage and oppression, many consider it to be important to continue identifying the principal minority group in Federal data collections and reporting systems. However, it is not clear if the referent groups should change given changing demographics.

1. Should Hispanic or Latino be among the groups considered among “principal minorities”? Would alternative terms be more salient (e.g., “principal minority race/ethnicity”)? Hispanic or Latino usually is considered an ethnicity while “minority” is usually used when referencing race.

The overall goal of the standards' review is to ensure the quality of information that is used to inform Federal policy, without imposing undue burden on the public. Comments are requested on any aspect of the Working Group's proposals. When evaluating the proposals, readers may wish to refer to the set of general principles used by Working Group members to govern its review (enumerated in Section 1 of the Working Group's interim report)—a process that has attempted to balance statistical issues, data needs, and social concerns. We recognize these principles may in some cases represent competing goals for the standards. For example, having categories that are comprehensive in the coverage of our Nation's diverse population (Principle 4) and that would facilitate self-identification (Principle 2) may not be operationally feasible in terms of the burden that would be placed upon respondents and the public and private costs that would be associated with implementation (Principle 8).

D. Conclusion

This Notice affords a second opportunity for the public to comment on the interim progress of the Working Group. None of the proposals has been adopted and no interim decisions have been made concerning them. OMB can modify or reject any of the proposals, and OMB has the option of making no changes. The report and its proposals are published in this Notice because OMB believes that they are worthy of public discussion, and OMB's decision will benefit from obtaining the public's views on the recommendations. OMB plans to announce its decision in spring 2017 so that revisions, if any, can be reflected in preparations for the 2020 Census.

Dominic J. Mancini,
Acting Administrator, Office of Information and Regulatory Affairs.

[FR Doc. 2017-03973 Filed 2-28-17; 8:45 am]

BILLING CODE P